DEPARTMENT OF THE INTERIOR

Bureau of Reclamation

Banks Lake Drawdown, Douglas and Grant Counties, WA

AGENCY: Bureau of Reclamation, Interior.

ACTION: Notice of Availability of Record of Decision.

SUMMARY: This notice is issued under authority of the National Environmental Policy Act (NEPA). The Record of Decision (ROD) signed on June 29, 2004, contains the decision of the Department of the Interior, Bureau of Reclamation (Reclamation) Pacific Northwest Region to select and implement the Preferred Alternative (No Action Alternative), as described in the Final Environmental Impact Statement (EIS), INT-FES-04-09, Federal Register Notice of Availability, dated May 25, 2004. The No Action Alternative is the environmentally preferred alternative. This alternative will best promote the national environmental policy as expressed in NEPA, and will cause the least damage to the biological and physical environment, while best protecting and preserving historic, cultural, and natural resources.

ADDRESSES: Copies of the ROD are available for public inspection and review at the following locations:

• Bureau of Reclamation, U.S. Department of the Interior, Room 7455, 1849 C Street, NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Bureau of Reclamation, Ephrata Field Office, 32 C Street, Ephrata, Washington 98823.

Libraries

• Bridgeport Community Library, Douglas County, 1206 Columbia Street, Bridgeport, WA 509-686-7281.

• Coulee City Community Library, 405 W. Main Street, Coulee City, WA 509-674-2313.

• Des Moines Library, 21620 11th Avenue S, Des Moines, WA 206-824-6066.

• East Wenatchee Community Library, Douglas County, 271 9th Street NE., East Wenatchee, WA 509-886-7404.

• Ephrata Public Library, 45 Alder NW., Ephrata, WA 509-754-3971.

• Grand Coulee Community Library, 225 Federal, Grand Coulee, WA 509-633-0972.

• Moses Lake Public Library, 418 E 5th Avenue, Moses Lake, WA 509-765-3489.

• Quincy Community Library, 108 B Street SW., Quincy, WA 509-787-2359.

• Royal City Community Library, 356 Camelia, Royal City, WA 509-346-9281.

• Seattle Public Library, 800 Pike Street, Seattle, WA 206-386-4636.

• Soap Lake Community Library, 32 E Main, Soap Lake, WA 509-246-1313.

• Warden Community Library, 305 S Main, Warden, WA 509-349-2226.

• Wenatchee Public Library, Chelan County, 310 Douglas Street, Wenatchee, WA 509-662-5021.

Internet

The ROD is also available on the Internet at http://www.usbr.gov/pn.

FOR FURTHER INFORMATION CONTACT: Mr. Jim Blanchard, Special Projects Officer, at 509-754-0226 (relay users may dial 711). Those wishing to obtain a copy of the ROD in the form of a printed document or a compact disk (CD-ROM with reader included) may contact Mr. Blanchard.

SUPPLEMENTARY INFORMATION: The Final EIS was developed in response to the December 2000 National Marine Fisheries Service's (NMFS; now the National Oceanic and Atmospheric Administration Fisheries) Biological Opinion (BiOp) issued to Reclamation, Bonneville Power Administration, and the U.S. Army Corps of Engineers for the operation of the Federal Columbia River Power System (NMFS 2000). The BiOp included a Reasonable and Prudent Alternative (RPA), of which Action 31 advised Reclamation to “assess the likely environmental effects of operation of Banks Lake up to 10 feet down from full pool during August.”

Reclamation complied with RPA Action 31 by preparing the Banks Lake Drawdown EIS, which describes and analyzes the environmental effects of lowering the August water surface elevation of Banks Lake annually to elevation 1560 feet, which is 10 feet below the full pool of elevation of 1570 feet.

Two alternatives were described and analyzed in the Final EIS. The No Action Alternative, which has a five foot drawdown, described the potential Banks Lake August operations if Reclamation decided not to implement the Action Alternative. Four scenarios were presented to illustrate how the water surface might be drafted to elevation 1565 feet by August 31. The Action Alternative, also with four illustrative scenarios, described the proposed operational modification of August water surface elevations to achieve elevation 1560 feet by August 31.

Reclamation is implementing the No Action Alternative to avoid adverse impacts identified in the Final EIS to recreation, resident fish, vegetation, cultural resources, the local economy around Banks Lake, and Federal and non-Federal power production. Reclamation has concluded the very small incremental benefit to Endangered Species Act-listed salmon and steelhead associated with the contribution from the drawdown of Banks Lake (1-2 percent of the flow objective at McNary Dam) is not sufficient to outweigh the adverse impacts to other resources.

Dated: June 30, 2004.
Kenneth R. Pedde,
Deputy Regional Director, Pacific Northwest Region.

[FR Doc. 04-20032 Filed 9-1-04; 8:45 am]

BILLING CODE 4310-MN-P